DEPARTMENT OF THE INTERIOR

National Park Service

[NPS-WASO-NAGPRA-NPS0037634; PPWOCRADN0-PCU00RP14.R50000]

Notice of Inventory Completion: The University of Tennessee, Department of Anthropology, Knoxville, TN

AGENCY: National Park Service, Interior.

ACTION: Notice.

SUMMARY: In accordance with the Native American Graves Protection and Repatriation Act (NAGPRA), the University of Tennessee, Department of Anthropology (UTK), has completed an inventory of human remains and associated funerary objects and has determined that there is a cultural affiliation between the human remains and associated funerary objects and Indian Tribes or Native Hawaiian organizations in this notice. The human remains and associated funerary objects were removed from Buchanan, Jackson, and Platte Counties, MO.

DATES: Repatriation of the human remains and associated funerary objects in this notice may occur on or after April 25, 2024.

ADDRESSES: Dr. Ozlem Kilic, University of Tennessee, Office of the Provost, 527 Andy Holt Tower, Knoxville, TN 37996-0152, telephone (865) 974-2454, email okilic@utk.edu and vpaa@utk.edu.

SUPPLEMENTARY INFORMATION: This notice is published as part of the National Park Service's administrative responsibilities under NAGPRA. The determinations in this notice are the sole responsibility of UTK. The National Park Service is not responsible for the determinations in this notice. Additional information on the determinations in this notice, including the results of consultation, can be found in the inventory or related records held by UTK.

Description

Human remains representing, at minimum, 28 individuals were removed from 23BN2, the Cloverdale site, in Buchanan County, MO. Most of these were systematically excavated by Reginald Bullock (R. B.) Aker in the late 1950s; however, he did not completely excavate the ossuary during that time, returning in 1959 to recover additional burials vandalized from previously unexcavated graves. Details of their transfer are unknown; however, it is likely that the burials were sent to Bill Bass at the University of Kansas (KU) and subsequently brought with him when he began working in the UTK Department of Anthropology in 1971. The two associated funerary objects are one lot of rock, and one lot of ceramics.

Human remains representing, at minimum, three individuals were removed from 23PL25, the Brenner-Keller Mound site, in Platte County, MO. After these burials were exposed by residential construction between December 1953 and January, 1954, they were excavated by Leo Roedl and James Howard as part of a joint project by the Kansas City Archaeological Society, Kansas City Museum, and University of Missouri, Columbia. At an unknown time, these individuals were sent to William Bass (probably while he was at KU) and subsequently transferred to UTK when Bass began working there in 1971. No associated funerary objects are present.

Human remains representing, at minimum 42 individuals removed from the Sugar Creek Ossuary (23PL58) in Platte County, MO. These burials were removed from the site by R.B. Aker in June, 1960 and likely housed at the University of Missouri, Columbia after excavation. With assistance from J. Mett Shippee, the burials were transferred to KU for study. William Bass was at KU at that time, and he likely brought the burials with him to UTK in 1971. The three lots of associated funerary objects are one lot of faunal remains, one lot of stone, and one lot of ceramics.

In May 1970, human remains representing, at minimum, six individuals were removed from 23PL69, the Moppin site, in Platte County, MO, by Bill Bass (then at KU). The burials were found on land owned by Earl Moppin of Platte City. Bass likely brought the burials with him to UTK in 1971. The eight associated funerary objects are one lot of rock, one thimble, one lot of metal fragments, one lot of glass and porcelain fragments, one lot of faunal remains, one lot of iron fragments, one lot of wood and charcoal, and one lot of beads.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: biological information, geographical information, historical information, and Native American traditional knowledge.

Determinations

Pursuant to NAGPRA and its implementing regulations, and after consultation with the appropriate Indian Tribes and Native Hawaiian organizations, UTK has determined that:

• The human remains described in this notice represent the physical remains of 79 individuals of Native American ancestry.

• The 13 objects described in this notice are reasonably believed to have been placed with or near individual human remains at the time of death or later as part of the death rite or ceremony.

• There is a relationship of shared group identity that can be reasonably traced between the human remains and associated funerary objects described in this notice and the Pawnee Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 25, 2024. If competing requests for repatriation are received, UTK must determine the most appropriate requestor prior to repatriation. Requests for joint repatriation of the human remains and associated funerary objects are considered a single request and not competing requests. UTK is responsible for sending a copy of this notice to the Indian Tribes and Native Hawaiian organizations identified in this notice.

This notice was submitted after the effective date of the revised regulations (88 FR 86452, December 13, 2023, effective January 12, 2024) but in the older format. As the notice conforms to the mandatory format of the Federal Register and includes the required information, the National Park Service is publishing this notice as submitted.

Authority: Native American Graves Protection and Repatriation Act, 25 U.S.C. 3003, and the implementing regulations, 43 CFR 10.10.

Dated: March 15, 2024.
Melanie O'Brien,
Manager, National NAGPRA Program.

[FR Doc. 2024-06275 Filed 3-25-24; 8:45 am]

BILLING CODE 4312-52-P